DEPARTMENT OF JUSTICE

Antitrust Division

Notice Pursuant to the National Cooperative Research and Production Act of 1993—Alliance for Water Stewardship

Notice is hereby given that, on September 10, 2010, pursuant to Section 6(a) of the National Cooperative Research and Production Act of 1993, 15 U.S.C. 4301 et seq. (“the Act”), Alliance for Water Stewardship (“AWS”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Alliance for Water Stewardship, Arlington, VA. The nature and scope of AWS's standards development activities are: (1) To establish equitable, voluntary, transparent, science-based standards for socially beneficial and environmentally sustainable use and management of fresh water at the watershed level; (2) to promote use and management of fresh water which will maintain or improve biodiversity and ecological processes and secure longterm benefits for local peoples and society at large; and (3) to encourage effective governance for water use and management through voluntary certification of businesses and water service providers. The AWS is responsible for coordinating and overseeing the process of developing water use and management target standards and indicators, such as catchment flow volume, user abstraction, nutrients in effluents, sediments in effluents, temperature of effluents, water pricing, and other aspects of a voluntary water stewardship standard system. As part of its standards development activities, the AWS organizes a Global Water Roundtable and continent-level Regional Initiatives, through which it invites stakeholder organizations to participate in the standards development process. The AWS will hold the intellectual property resulting from its standards development activities until such a time when it may transfer its holdings to a successor organization or is itself designated the permanent custodian of the intellectual property.

Below is the name and contact information of an individual from whom additional information concerning the organization can be obtained: Carey R. Ramos, Esq.; Paul, Weiss, Rifkind, Wharton & Garrison LLP; 1285 Avenue of the Americas; New York, NY 10019-6064.

Patricia A. Brink,
Deputy Director of Operations, Antitrust Division.

[FR Doc. 2010-26734 Filed 10-25-10; 8:45 am]

BILLING CODE 4410-11-M